DEPARTMENT OF DEFENSE

Department of the Army; Corps of Engineers

Intent To Prepare a Regional Comprehensive Draft Environmental Impact Statement for the Indian River County Beach Restoration Project, Indian River County, FL

AGENCY: Department of the Army, U.S. Army Corps of Engineers, DoD.

ACTION: Notice of intent.

SUMMARY: The Jacksonville District, U.S. Army Corps of Engineers (Corps), intends to prepare a Draft Environmental Impact Statement (DEIS) to address the potential impacts associated with the implementation of beach restoration measures in Indian River County, Florida. The Corps will be evaluating a permit application for the work under the authority of section 10 of the Rivers and Harbors Act and section 404 of the Clean Water Act. The DEIS will be used as a basis for the permit decision and to ensure compliance with the National Environmental Policy Act (NEPA). Interested parties are invited to submit comments on or before February 9, 2004 to assure full consideration during the scoping process.

FOR FURTHER INFORMATION CONTACT: Questions or comment submissions should be addressed to Ms. Irene Sadowski, Jacksonville District at U.S. Army Corps of Engineers, 2460 N. Courtney Parkway, Suite 204, Merritt Island, FL 32953, phone: (321) 453-7655, Ext. 12 or e-mail: Irene.sadowski@usace.army.mil.

SUPPLEMENTARY INFORMATION: Purpose of the Proposed Project. The applicant proposes to place approximately 459,700 cubic yards of beach-quality material along 1.35 miles of shoreline to restore erosion-damaged beaches and enhance existing dunes within Sector 7 in accordance with the County's comprehensive shore protection program. The Florida Department of Environmental Protection has identified 4,000 feet of the project area as an area of Critical Erosion. The project is being proposed to: mitigate the historical erosion loss; protect upland properties and infrastructure; establish a viable beach and dune system for sea turtles; and enhance the recreational use of the County's eroded beaches.

Within Sector 7, continued erosion has limited the availability of quality beaches and has increased the cost of protecting the shoreline. To protect shorefront properties within the area, extensive seawall construction has taken place within recent years. Without adequate large-scale measures to counteract erosion rates within this area, more shoreline armoring to protect property is likely to occur.

Beach restoration was recommended for this shoreline based on erosion rates, proximity of major structures to mean high water line, beach width, available sand resources and coastal dynamics. The goals of the beach restoration and dune enhancement are to optimize the performance and cost of the project while providing storm protection for the upland properties, limiting direct and indirect coverage of nearshore hardbottom habitats, creating additional nesting habitat for marine turtles, and providing greater recreational area along the County's beaches.

Indian River County recently completed a beach restoration project in Sectors 1 and 2 at the northern end of the County (Ambersand Beach Restoration Project), under the authority of the Department of the Army Permit Number 200001872 (IP-IS) and the Florida Department of Environmental Protection Permit Number 0166929-001-JC. This project involved the development of an Environmental Assessment and Regional Cumulative Impact Assessment. This regional assessment of the cumulative impacts associated with beach nourishment activities will be updated with this project and included in the DEIS as an appendix.

The DEIS intends to focus on Sector 7 and incorporate the effects of all future beach nourishment projects in less detail. Future projects within Indian River County with be added as supplements to the EIS when these projects come on line.

Alternatives. For the Sector 7 beach restoration project, the applicant has provided analysis of a number of alternatives, including the No Action Alternative, in addition to the proposed alternative. Alternatives to be evaluated in the DEIS include the use of sand retention structures and decreased fill volume. Other alternatives with the potential to further minimize environmental impacts may be included in the DEIS.

Issues. Issues related with this beach restoration project include impacts to nearshore hardbottom resources, impacts to Essential Fish Habitat, impacts to marine turtles including foraging habitat and nesting beaches, and beach access concerns.

Scoping and Public Involvement. The scoping process will involve Federal, State, County, and municipal agencies and other interested persons and organizations. A workshop was held at the Indian River County Commission Chambers, 1840 25th Street, Vero Beach, FL, by Indian River County on July 23, 2003, to solicit comments from interested organizations and individuals on the scope of the DEIS. Comments received included the use of public monies for the work, the need for the work, impacts to nearshore hardbottom reefs, alternative designs, and the need for public access. Issues brought forth may be considered during the EIS process.

Coordination. The proposed action is being coordinated with the U.S. Fish and Wildlife Service (FWS), and the National Marine Fisheries Service under section 7 of the Endangered Species Act and the Magnuson-Stevens Fishery Conservation and Management Act.

DEIS Preparation. It is estimated that the DEIS will be available to the public by June 2004.

Luz D. Ortiz,
Army Federal Register Liaison Officer.

[FR Doc. 03-31334 Filed 12-18-03; 8:45 am]

BILLING CODE 3710-AJ-M